DEPARTMENT OF HOUSING AND URBAN DEVELOPMENT

[Docket No. FR-5500-FA-09]

Announcement of Funding Awards for the Public and Indian Housing Family Self-Sufficiency Program Under the Resident Opportunity and Self-Sufficiency Program for Fiscal Year (FY) 2011

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department for funding under the Notice of Funding Availability (NOFA) for the Public and Indian Housing Family Self-Sufficiency Program under the Resident Opportunity and Self-Sufficiency (PH-FSS) Program for FY 2011. This announcement contains the consolidated names and addresses of those award recipients selected for funding based on the funding priority categories established in the NOFA.

FOR FURTHER INFORMATION CONTACT: Andrea Edmond, Grant Management Center, Office of Public and Indian Housing, Department of Housing and Urban Development, 451 Seventh Street SW., B133 Potomac Center, 3rd Floor, Washington, DC 20410, telephone number 202-475-8851. For the hearing or speech impaired, these numbers may be accessed via TTY (text telephone) by calling the Federal Relay Service at 800-877-8339. (Other than the “800” TTY number, these telephone numbers are not toll-free.)

SUPPLEMENTARY INFORMATION: The PH-FSS Program is designed to promote the development of local strategies to coordinate the use of assistance under the Public Housing program with public and private resources, enable participating families to increase earned income and financial literacy, reduce or eliminate the need for welfare assistance, and make progress toward achieving economic independence and housing self-sufficiency. The PH-FSS program provides critical tools that can be used by communities to support welfare reform and help families develop new skills that will lead to economic self-sufficiency. A PH-FSS Program Coordinator assures that program participants are linked to the supportive services they need to achieve self-sufficiency.

On April 21, 2011, HUD posted its PH-FSS NOFA. The NOFA made available approximately $15,000,000 in one-year budget authority under the Department of Defense and Full-Year Continuing Appropriations Act, 2011 (Pub. L. 112-10, approved April 15, 2011). The Department reviewed, evaluated, and scored the applications received based on the criteria in the FY 2011 NOFA, and has funded the applications announced in Appendix A. In accordance with Section 102(a)(4)(C) of the Department of Housing and Urban Development Reform Act of 1989 (42 U.S.C. 3545), the Department is publishing the names, addresses, and amounts of the 238 awards made under the Public and Indian Housing Family Self-Sufficiency Program under Resident Opportunity and Self-Sufficiency Program competition.

Dated: February 24, 2012.
Sandra B. Henriquez,
Assistant Secretary for Public and Indian Housing.

Appendix A

Fiscal Year 2011 Funding Awards for the Public and Indian Housing Family Self-Sufficiency Program Under Resident Opportunity and Self-Sufficiency (ROSS)
Recipient | Address | City | Zip code | State | Zip code | Amount ($)
Alaska Housing Finance Corporation | P.O. Box 101020 | Anchorage | 99510 | AK | 99510 | 69,000
Alexander City Housing Authority | 2110 County Road | Alexander City | 35010 | AL | 35010 | 39,936
Housing Authority of the Birmingham District | 1826 3rd Avenue South | Birmingham | 35233 | AL | 35233 | 69,000
Huntsville Housing Authority | 200 Washington Street | Huntsville | 35804 | AL | 35804 | 55,550
Mobile Housing Board | 151 South Claiborne Street | Mobile | 36602 | AL | 36602 | 46,926
Tuscaloosa Housing Authority | P.O. Box 2281, 2117 Jack Warner Parkway, Suite 3 | Tuscaloosa | 35401 | AL | 35401 | 69,000
Housing Authority of Pine Bluff | 2503 Belle Meade | Pine Bluff | 71611 | AR | 71611 | 28,500
Housing Authority of the City of Hot Springs | 1004 Illinois Street | Hot Springs | 71901 | AR | 71901 | 27,390
Housing Authority of the City of North Little Rock Arkansas | 2201 Division | North Little Rock | 72114 | AR | 72114 | 40,629
Housing Authority of the City of West Memphis | 2820 Harrison Street | West Memphis | 72301 | AR | 72301 | 42,652
City of Phoenix Housing Department | 251 West Washington, 4th Floor | Phoenix | 85003 | AZ | 85003 | 68,000
City of Tucson | P.O. Box 27210, 310 North Commerce Park Loop | Tucson | 85726 | AZ | 85726 | 68,680
Housing Authority of Maricopa County | 2024 North 7th Street | Phoenix | 85006 | AZ | 85006 | 69,000
Housing Authority of the City of Yuma | 420 South Madison Avenue | Yuma | 85364 | AZ | 85364 | 62,458
Yuma County Housing Department | 8450 West Highway 95, Suite 88 | Somerton | 85350 | AZ | 85350 | 56,000
Bear River Band Rohnerville Rancheria | 27 Bear River Drive | Loleta | 95551 | CA | 95551 | 68,000
Housing Authority of the City of Sacramento | 801 12th Street | Sacramento | 95814 | CA | 95814 | 69,000
Housing Authority of the City of San Buenaventura | 995 Riverside Street | Ventura | 93001 | CA | 93001 | 69,000
Housing Authority of the City of San Luis Obispo | 487 Leff Street | San Luis Obispo | 93401 | CA | 93401 | 54,622
Housing Authority of the City of Santa Barbara | 808 Laguna Street | Santa Barbara | 93101 | CA | 93101 | 66,950
Housing Authority of the County of Kern | 601-24th Street | Bakersfield | 93301 | CA | 93301 | 62,804
Housing Authority of the County of Marin | 4020 Civic Center Drive | San Rafael | 94903 | CA | 94903 | 68,959
Housing Authority of the County of Sacramento | 801 12th Street | Sacramento | 95814 | CA | 95814 | 69,000
Housing Authority of the County of San Bernardino | 715 East Brier Drive | San Bernardino | 92408 | CA | 92408 | 69,000
Housing Authority of the County of San Joaquin | 448 South Center Street | Stockton | 95203 | CA | 95203 | 120,442
Housing Authority of the County of Santa Cruz | 2931 Mission Street | Santa Cruz | 95060 | CA | 95060 | 69,000
Housing Authority of the County of Stanislaus | P.O. Box 581918, 1701 Robertson Road | Modesto | 95358 | CA | 95358 | 65,000
Madera, City of | 205 North G Street | Madera | 93637 | CA | 93637 | 54,368
Oakland Housing Authority | 1619 Harrison Street | Oakland | 94612 | CA | 94612 | 66,836
Oxnard Housing Authority | 435 South D Street | Oxnard | 93030 | CA | 93030 | 69,000
The Housing Authority of the County of Los Angeles | 2 Coral Circle | Monterey Park | 91755 | CA | 91755 | 69,000
Boulder, City of Housing Authority dba Boulder Housing Partn | 4800 Broadway | Boulder | 80304 | CO | 80304 | 69,000
Fort Collins Housing Authority | 1715 West Mountain Avenue | Fort Collins | 80521 | CO | 80521 | 69,000
Housing Authority of the City and County of Denver | 777 Grant Street | Denver | 80203 | CO | 80203 | 243,230
Housing Authority of New Britain | 16 Armistice Street | New Britain | 6053 | CT | 6053 | 69,000
Housing Authority of Stamford | 22 Clinton Street | Stamford | 6901 | CT | 6901 | 66,950
Housing Authority of the City of Meriden | 22 Church Street | Meriden | 6451 | CT | 6451 | 58,539
Housing Authority of the City of New Haven | 360 Orange Street | New Haven | 6511 | CT | 6511 | 69,000
Housing Authority of the City of Norwalk | 24½ Monroe Street | Norwalk | 6856 | CT | 6856 | 69,000
Broward County Housing Authority | 4780 North State Road 7 | Lauderdale Lakes | 33319 | FL | 33319 | 46,550
Fort Pierce Housing Authority | 511 Orange Avenue | Fort Pierce | 34950 | FL | 34950 | 45,320
Hialeah Housing Authority | 75 East 6th Street | Hialeah | 33010 | FL | 33010 | 40,293
Housing Authority of Brevard County | 1401 Guava Avenue | Melbourne | 32935 | FL | 32935 | 55,222
Housing Authority of Lakeland | 430 Hartsell Avenue | Lakeland | 33815 | FL | 33815 | 52,084
Housing Authority of the City of Fort Myers | 4224 Renaissance Preserve Way | Fort Myers | 33916 | FL | 33916 | 60,092
Housing Authority of the City of Tampa | 1529 West Main Street | Tampa | 33607 | FL | 33607 | 67,593
Jacksonville Housing Authority | 1300 Broad Street | Jacksonville | 32202 | FL | 32202 | 45,867
Lee County Housing Authority | 14170 Warner Circle | North Fort Myers | 33903 | FL | 33903 | 48,801
Manatee County Housing Authority | 5631 11th Street East | Bradenton | 34203 | FL | 34203 | 62,620
Pinellas County Housing Authority | 11479 Ulmerton Road | Largo | 33778 | FL | 33778 | 69,000
Sarasota Housing Authority | 40 South Pineapple Avenue | Sarasota | 34236 | FL | 34236 | 49,000
The Housing Authority of the City of Daytona Beach | 211 North Ridgewood Avenue, Suite 300 | Daytona Beach | 32114 | FL | 32114 | 45,020
West Palm Beach Housing Authority | 1715 Division Avenue | West Palm Beach | 33407 | FL | 33407 | 40,206
Housing Authority of Columbus, Georgia | P.O. Box 630, 1000 Wynnton Road | Columbus | 31902 | GA | 31902 | 46,350
Housing Authority of Savannah | 1407 Wheaton Street | Savannah | 31404 | GA | 31404 | 69,000
Housing Authority of the City of Albany, GA | P.O. Box 485, 521 Pine Avenue | Albany | 31702 | GA | 31702 | 30,836
Housing Authority of the City of Carrollton | 1 Roop Street | Carrollton | 30117 | GA | 30117 | 61,074
Macon Housing Authority | 2015 Felton Avenue | Macon | 31201 | GA | 31201 | 63,368
Northwest Georgia Housing Authority | 800 North Fifth Avenue | Rome | 30162 | GA | 30162 | 45,976
The Housing Authority of the City of Marietta | P.O. Drawer K, 95 Cole Street | Marietta | 30061 | GA | 30061 | 57,070
Tri-City Housing Authority | P.O. Box, 33 Martin Luther King Jr. Drive | Woodland | 31836 | GA | 31836 | 69,000
City of Des Moines Municipal Housing Agency | 100 East Euclid Avenue, Suite 101 | Des Moines | 50313 | IA | 50313 | 32,024
Eastern Iowa Regional Housing Authority | 7600 Commerce Park | Dubuque | 52002 | IA | 52002 | 66,746
Nampa Housing Authority | 211 19th Avenue North | Nampa | 83687 | ID | 83687 | 36,342
Chicago Housing Authority | 60 East Van Buren | Chicago | 60605 | IL | 60605 | 57,962
Housing Authority of Elgin | 120 South State Street | Elgin | 60123 | IL | 60123 | 69,000
Housing Authority of Greene County | P.O. Box 336, 325 North Carr Street | White Hall | 62092 | IL | 62092 | 45,910
Housing Authority of Henry County | 125 North Chestnut Street | Kewanee | 61443 | IL | 61443 | 48,918
Housing Authority of Joliet | 6 South Broadway Street | Joliet | 60436 | IL | 60436 | 64,992
Housing Authority of the City of Freeport | 1052 West Galena Avenue | Freeport | 61032 | IL | 61032 | 69,000
Housing Authority of the County of Lake | 33928 North Route 45 | Grayslake | 60030 | IL | 60030 | 69,000
Macoupin County Housing Authority | P.O. Box 226 | Carlinville | 62626 | IL | 62626 | 42,616
Menard County Housing Authority | P.O. Box 168, 101 West Sheridan Road | Petersburg | 62675 | IL | 62675 | 29,160
Peoria Housing Authority | 100 South Richard Pryor Place | Peoria | 61605 | IL | 61605 | 49,515
Rock Island Housing Authority | 227 21st Street | Rock Island | 61201 | IL | 61201 | 65,000
Rockford Housing Authority | 223 South Winnebago Street | Rockford | 61102 | IL | 61102 | 68,964
Springfield Housing Authority | 200 North Eleventh Street | Springfield | 62703 | IL | 62703 | 39,000
Housing Authority of the City of Evansville | 500 Court Street | Evansville | 47708 | IN | 47708 | 47,690
Housing Authority of the City of Fort Wayne, Indiana | P.O. Box 13489 | Fort Wayne | 46869 | IN | 46869 | 40,000
Housing Authority of the City of Michigan City | 621 East Michigan Boulevard | Michigan City | 46360 | IN | 46360 | 43,894
Housing Authority, City of Elkhart | 1396 Benham Avenue | Elkhart | 46516 | IN | 46516 | 40,982
Indianapolis Housing Agency | 1919 North Meridian Street | Indianapolis | 46202 | IN | 46202 | 69,000
New Albany Housing Authority | P.O. Box 11 | New Albany | 47150 | IN | 47150 | 114,000
Lawrence-Douglas County Housing Authority | 1600 Haskell Avenue | Lawrence | 66044 | KS | 66044 | 81,456
Housing Authority of Bowling Green | 247 Double Springs Road | Bowling Green | 42101 | KY | 42101 | 47,470
Housing Authority of Covington | 2300 Madison Avenue | Covington | 41014 | KY | 41014 | 69,000
Housing Authority of Glasgow | P.O. Box 1745, 111 Bunche Avenue | Glasgow | 42142 | KY | 42142 | 40,631
Lexington-Fayette Urban County Housing Authority | 300 West New Circle Road | Lexington | 40505 | KY | 40505 | 54,000
Louisville Metro Housing Authority | 420 South Eighth Street | Louisville | 40203 | KY | 40203 | 69,000
Housing Authority of the City of Shreveport | 2500 Line Avenue | Shreveport | 71104 | LA | 71104 | 58,440
Jefferson Parish Housing Authority | 1718 Betty Street | Marrero | 70072 | LA | 70072 | 45,893
Boston Housing Authority | 52 Chauncy Street | Boston | 2111 | MA | 2111 | 69,000
Brockton Housing Authority | 45 Goddard Road | Brockton | 2303 | MA | 2303 | 69,000
Fall River Housing Authority | 85 Morgan Street | Fall River | 2722 | MA | 2722 | 69,000
Framingham Housing Authority | 1 John J. Brady Drive | Framingham | 1702 | MA | 1702 | 69,000
Holyoke Housing Authority | 475 Maple Street, Suite One | Holyoke | 1040 | MA | 1040 | 47,744
Lowell Housing Authority | P.O. Box 60, 350 Moody Street | Lowell | 1853 | MA | 1853 | 65,000
Lynn Housing Authority & Neighborhood Development (LHAND) | 10 Church Street | Lynn | 1902 | MA | 1902 | 53,074
Malden Housing Authority | 630 Salem Street | Malden | 2148 | MA | 2148 | 68,000
Medford Housing Authority | 121 Riverside Avenue | Medford | 2155 | MA | 2155 | 69,000
Somerville Housing Authority | 30 Memorial Road | Somerville | 2145 | MA | 2145 | 69,000
Worcester Housing Authority | 40 Belmont Street | Worcester | 1605 | MA | 1605 | 68,000
Hagerstown Housing Authority | 35 West Baltimore Street | Hagerstown | 21740 | MD | 21740 | 100,125
Havre De Grace Housing Authority | 101 Stansbury Court | Havre De Grace | 21078 | MD | 21078 | 69,000
Housing Authority of Baltimore City | 417 East Fayette Street | Baltimore | 21202 | MD | 21202 | 69,000
Housing Authority of St. Mary's County, Maryland | 21155 Lexwood Drive, Suite C | Lexington Park | 20653 | MD | 20653 | 42,008
Housing Authority of the City of Frederick | 209 Madison Street | Frederick | 21701 | MD | 21701 | 53,045
Housing Commission of Anne Arundel County | 7477 Baltimore Annapolis Boulevard | Glen Burnie | 21060 | MD | 21060 | 69,000
Housing Opportunities Commission | 10400 Detrick Avenue | Kensington | 20895 | MD | 20895 | 141,114
Rockville Housing Enterprises | 621-A Southlawn Lane | Rockville | 20850 | MD | 20850 | 23,075
Housing Authority of the City of Brewer | 15 Colonial Circle, Suite 1 | Brewer | 4412 | ME | 4412 | 52,832
Lewiston Housing Authority | 1 College Street | Lewiston | 4240 | ME | 4240 | 17,848
Portland Housing Authority | 14 Baxter Boulevard | Portland | 4101 | ME | 4101 | 19,157
Grand Rapids Housing Commission | 1420 Fuller Avenue SE | Grand Rapids | 49507 | MI | 49507 | 65,500
Saginaw Housing Commission | 1803 Norman Street | Saginaw | 48605 | MI | 48605 | 48,675
Housing Authority of St. Louis Park | 5005 Minnetonka Boulevard | St. Louis Park | 55416 | MN | 55416 | 18,035
Washington County Housing and Redevelopment Authority | 321 Broadway Avenue | St. Paul Park | 55071 | MN | 55071 | 29,247
Housing Authority of Kansas City, Missouri | 301 East Armour | Kansas City | 64111 | MO | 64111 | 54,775
Housing Authority of Saint Charles | 1041 Olive Street | Saint Charles | 63301 | MO | 63301 | 44,790
Housing Authority of the City of Columbia, MO | 201 Switzler Street | Columbia | 65203 | MO | 65203 | 52,396
St. Louis Housing Authority | 3520 Page Boulevard | St. Louis | 63106 | MO | 63106 | 68,000
The Meridian Housing Authority | 2425 E. Street | Meridian | 39301 | MS | 39301 | 57,011
Missoula Housing Authority | 1235 34th Street | Missoula | 59801 | MT | 59801 | 69,000
City of Concord Housing Department | P.O. Box 308, 283 Harold Goodman Circle | Concord | 28026 | NC | 28026 | 48,568
City of Hickory Public Housing Authority | P.O. Box 2927 | Hickory | 28603 | NC | 28603 | 50,073
Gastonia Housing Authority | P.O. Box 2398, 340 West Long Avenue | Gastonia | 28053 | NC | 28053 | 62,000
Housing Authority of the City of Asheville | 165 South French Broad Avenue | Asheville | 28801 | NC | 28801 | 55,000
Housing Authority of the City of Charlotte, NC | 1301 South Boulevard | Charlotte | 28203 | NC | 28203 | 65,000
Housing Authority of the City of Greensboro | P.O. Box 21287, 450 North Church Street | Greensboro | 27420 | NC | 27420 | 63,115
Housing Authority of the City of Greenville | 1103 Broad Street | Greenville | 27834 | NC | 27834 | 60,371
Housing Authority of the City of High Point | 500 East Russell Avenue | High Point | 27261 | NC | 27261 | 104,724
Housing Authority of the City of Kinston, NC | 608 North Queen Street | Kinston | 28501 | NC | 28501 | 46,957
Housing Authority of the City of Wilmington NC | 1524 South 16th Street | Wilmington | 28401 | NC | 28401 | 60,000
Lexington Housing Authority | P.O. Box 1085 | Lexington | 27293 | NC | 27293 | 58,054
Mid-East Regional Housing Authority | 809 Pennsylvania Avenue | Washington | 27889 | NC | 27889 | 41,000
North Wilkesboro Housing Authority | 101 Hickory Street | North Wilkesboro | 28659 | NC | 28659 | 55,000
Statesville Housing Authority | 110 West Allison Street | Statesville | 28677 | NC | 28677 | 130,000
The Housing Authority of the City of Durham | 330 East Main Street | Durham | 27701 | NC | 27701 | 69,000
Fargo Housing and Redevelopment Authority | 325 Broadway | Fargo | 58102 | ND | 58102 | 51,830
Housing Authority of the City of Lincoln | Lincoln Housing Authority, 5700 R Street | Lincoln | 68505 | NE | 68505 | 51,856
Kearney Housing Agency | P.O. Box 1236, 2715 Avenue I | Kearney | 68848 | NE | 68848 | 46,350
Dover Housing Authority | 62 Whittier Street | Dover | 3820 | NH | 3820 | 69,000
Atlantic City Housing Authority and Urban Redevelopment Agen | 227 North Vermont Avenue, 17th Floor | Atlantic City | 8404 | NJ | 8404 | 58,065
Housing Authority County of Morris | 99 Ketch Road | Morristown | 7960 | NJ | 7960 | 36,102
Housing Authority of the Borough of Madison | 24 Central Avenue | Madison | 7940 | NJ | 7940 | 69,000
Housing Authority of the City of Camden | 2021 Watson Street, 2nd Floor | Camden | 8105 | NJ | 8105 | 46,683
Housing Authority of the City of Long Branch | 2 Hope Lane | Long Branch | 7740 | NJ | 7740 | 69,000
Housing Authority of the City of Perth Amboy | P.O. Box 390, 881 Amboy Avenue | Perth Amboy | 8862 | NJ | 8862 | 55,652
Housing Authority of the City of Vineland | 191 West Chester Avenue | Vineland | 8360 | NJ | 8360 | 69,000
Pleasantville Housing Authority | 156 North Main Street | Pleasantville | 8232 | NJ | 8232 | 69,000
The Housing Authority of Plainfield | 510 East Front Street | Plainfield | 7060 | NJ | 7060 | 69,000
Clovis Housing & Redevelopment Agency, Inc | P.O. Box 1240, 2101 West Grand Avenue | Clovis | 88101 | NM | 88101 | 45,020
Housing Authority of the City of Truth or Consequences | 108 Cedar Street | Truth or Consequences | 87901 | NM | 87901 | 56,227
Santa Fe Civic Housing Authority | 664 Alta Vista Street | Santa Fe | 87505 | NM | 87505 | 57,585
Santa Fe County Housing Authority | 52 Camino De Jacobo | Santa Fe | 87507 | NM | 87507 | 56,587
Housing Authority of the City of Reno | 1525 East 9th Street | Reno | 89512 | NV | 89512 | 28,214
Southern Nevada Regional Housing Authority (SNRHA) | 340 North 11th Street | Las Vegas | 89101 | NV | 89101 | 182,804
Buffalo Municipal Housing Authority | 300 Perry Street | Buffalo | 14204 | NY | 14204 | 69,000
Geneva Housing Authority | P.O. Box 153, 41 Lewis Street | Geneva | 14456 | NY | 14456 | 65,642
Mechanicville Housing Authority | 1 Harris Avenue | Mechanicville | 12118 | NY | 12118 | 34,479
Municipal Housing Authority of the City of Schenectady | 375 Broadway | Schenectady | 12305 | NY | 12305 | 57,199
New Rochelle Municipal Housing Authority | 50 Sickles Avenue | New Rochelle | 10801 | NY | 10801 | 69,000
Rochester Housing Authority | 675 West Main Street | Rochester | 14611 | NY | 14611 | 66,136
Troy Housing Authority | One Eddy's Lane | Troy | 12180 | NY | 12180 | 61,955
Akron Metropolitan Housing Authority | 100 West Cedar Street | Akron | 44307 | OH | 44307 | 131,431
Chillicothe Metropolitan Housing Authority | 178 West Fourth Street | Chillicothe | 45601 | OH | 45601 | 50,325
Dayton Metropolitan Housing Authority | P.O. Box 8750, 400 Wayne Avenue | Dayton | 45401 | OH | 45401 | 65,042
Fairfield Metropolitan Housing Authority | 315 North Columbus Street | Lancaster | 43130 | OH | 43130 | 56,580
Geauga Metropolitan Housing Authority | 385 Center Street | Chardon | 44024 | OH | 44024 | 63,654
Lorain Metropolitan Housing Authority | 1600 Kansas Avenue | Lorain | 44052 | OH | 44052 | 64,781
Lucas Metropolitan Housing Authority | 435 Nebraska Avenue | Toledo | 43604 | OH | 43604 | 55,110
Morgan Metropolitan Housing Authority | 4580 N. Street Route 376 NW | McConnelsville | 43756 | OH | 43756 | 49,849
Springfield Metropolitan Housing Authority | 101 West High Street | Springfield | 45502 | OH | 45502 | 69,000
Trumbull Metropolitan Housing Authority | 4076 Youngstown Road SE, Suite 101 | Warren | 44484 | OH | 44484 | 50,078
Youngstown Metropolitan Housing Authority | 131 West Boardman Street | Youngstown | 44503 | OH | 44503 | 59,518
Zanesville Metropolitan Housing Authority | 407 Pershing Road | Zanesville | 43701 | OH | 43701 | 51,487
Housing Authority of the City of Muskogee | 220 North 40th Street | Muskogee | 74401 | OK | 74401 | 42,436
Housing Authority of the City of Shawnee, OK | P.O. Box 3427, 601 West Seventh Street | Shawnee | 74804 | OK | 74804 | 92,148
Housing Authority of the City of Tulsa | 415 East Independence Street | Tulsa | 74106 | OK | 74106 | 46,712
Housing Authority & Community Services Agency of Lane County | 177 Day Island Road | Eugene | 97401 | OR | 97401 | 69,000
Housing Authority and Urban Renewal Agency of Polk County OR | P.O. Box 467, 204 SW Walnut | Dallas | 97338 | OR | 97338 | 15,881
Housing Authority of Portland | 135 South West Ash Street | Portland | 97204 | OR | 97204 | 199,524
Housing Authority of the City of Salem | 360 Church Street SE | Salem | 97301 | OR | 97301 | 69,000
Allegheny County Housing Authority | 625 Stanwix Street, 12th Floor | Pittsburgh | 15222 | PA | 15222 | 68,428
Harrisburg Housing Authority | 351 Chestnut Street | Harrisburg | 17101 | PA | 17101 | 55,000
Housing Authority of Northumberland County | 50 Mahoning Street | Milton | 17847 | PA | 17847 | 53,718
Housing Authority of the City of Pittsburgh | 200 Ross Street | Pittsburgh | 15219 | PA | 15219 | 47,262
Housing Authority of the City of York | 31 South Broad Street | York | 17403 | PA | 17403 | 45,278
Philadelphia Housing Authority | 12 South 23rd Street, 6th Floor | Philadelphia | 19103 | PA | 19103 | 69,000
Westmoreland County Housing Authority | 154 South Greengate Road | Greensburg | 15601 | PA | 15601 | 60,676
The Housing Authority of the City of Providence | 100 Broad Street | Providence | 2903 | RI | 2903 | 69,000
Housing Authority of Greenville | 511 Augusta Street | Greenville | 29605 | SC | 29605 | 47,206
Housing Authority of the City of Columbia, SC | 1917 Harden Street | Columbia | 29204 | SC | 29204 | 48,329
North Charleston Housing Authority | 2170 Ashley Phosphate Road, #700 | North Charleston | 29406 | SC | 29406 | 50,000
Chattanooga Housing Authority | 801 North Holtzclaw Avenue | Chattanooga | 37404 | TN | 37404 | 68,000
Franklin Housing Authority | 200 Spring Street | Franklin | 37064 | TN | 37064 | 55,080
Jackson Housing Authority | 125 Preston Street | Jackson | 38301 | TN | 38301 | 101,268
Kingsport Housing & Redevelopment Authority | P.O. Box 44, 906 East Sevier Avenue | Kingsport | 37662 | TN | 37662 | 64,174
Memphis Housing Authority | 700 Adams Avenue | Memphis | 38105 | TN | 38105 | 69,000
Metropolitan Development and Housing Agency | 701 South Sixth Street | Nashville | 37206 | TN | 37206 | 136,648
Shelbyville Housing Authority | 316 Templeton Street | Shelbyville | 37160 | TN | 37160 | 49,037
Town of Crossville Housing Authority | P.O. Box 425 | Crossville | 38557 | TN | 38557 | 56,837
Housing Authority of Austin | P.O. Box 6159 | Austin | 78762 | TX | 78762 | 109,342
Housing Authority of City of Fort Worth | 1201 East 13th Street | Fort Worth | 76102 | TX | 76102 | 69,000
Housing Authority of the City of Beaumont | 1890 Laurel | Beaumont | 77701 | TX | 77701 | 41,330
Housing Authority of the City of Brownsville | P.O. Box 4420, 2606 Boca Chica Boulevard | Brownsville | 78523 | TX | 78523 | 44,283
Housing Authority of the City of Mission | 1300 East 8th Street | Mission | 78572 | TX | 78572 | 68,000
Housing Authority of the City of Round Rock | 1505 Lance Lane | Round Rock | 78664 | TX | 78664 | 69,000
Housing Authority of the City of San Antonio | 818 South Flores Street | San Antonio | 78204 | TX | 78204 | 413,273
Housing Authority of the City of Waco | P.O. Box 978, 4400 Cobbs Drive | Waco | 76703 | TX | 76703 | 52,758
Housing Authority of the City of Wichita Falls | 501 Webster | Wichita Falls | 76301 | TX | 76301 | 48,500
Housing Authority of the County of Hidalgo | 1800 North Texas Boulevard | Weslaco | 78596 | TX | 78596 | 41,734
Houston Housing Authority | 2640 Fountainview, Suite 400 | Houston | 77057 | TX | 77057 | 52,518
Robstown Housing Authority | 625 West Avenue F | Robstown | 78380 | TX | 78380 | 32,136
San Marcos Housing Authority | 1201 Thorpe Lane | San Marcos | 78666 | TX | 78666 | 51,260
The Housing Authority of the City of Dallas | 3939 North Hampton Road | Dallas | 75212 | TX | 75212 | 56,440
Housing Authority of the County of Salt Lake | 3595 South Main Street | Salt Lake City | 84115 | UT | 84115 | 59,652
Alexandria Redevelopment & Housing Authority | 600 North Fairfax Street | Alexandria | 22314 | VA | 22314 | 69,000
Bristol Redevelopment and Housing Authority | 809 Edmond Street | Bristol | 24201 | VA | 24201 | 41,843
Charlottesville Redevelopment and Housing Authority | P.O. Box 1405 | Charlottesville | 22902 | VA | 22902 | 50,920
City of Roanoke Redevelopment & Housing Authority | 2624 Salem Turnpike NW | Roanoke | 24017 | VA | 24017 | 110,000
Danville Redevelopment and Housing Authority | 135 Jones Crossing | Danville | 24541 | VA | 24541 | 47,271
Fairfax Co. Redevelopment and Housing Authority | 3700 Pender Drive, Suite 300 | Fairfax | 22030 | VA | 22030 | 69,000
Newport News Redevelopment and Housing Authority | 227 27th Street | Newport News | 23607 | VA | 23607 | 48,410
Norfolk Redevelopment and Housing Authority | 201 Granby Street | Norfolk | 23510 | VA | 23510 | 138,000
Portsmouth Redevelopment & Housing Authority | 801 Water Street | Portsmouth | 23704 | VA | 23704 | 55,340
Richmond Redevelopment & Housing Authority | 901 Chamberlayne Parkway | Richmond | 23220 | VA | 23220 | 69,000
Waynesboro Redevelopment and Housing Authority | P.O. Box 1138, 1700 New Hope Road | Waynesboro | 22980 | VA | 22980 | 44,290
Brattleboro Housing Authority | P.O. Box 2275 | Brattleboro | 5303 | VT | 5303 | 69,000
Rutland Housing Authority | 5 Tremont Street | Rutland | 5701 | VT | 5701 | 65,477
Housing Authority of the City of Tacoma | 902 South L. Street | Tacoma | 98405 | WA | 98405 | 59,662
Housing Authority of the City of Vancouver | 2500 Main Street | Vancouver | 98660 | WA | 98660 | 65,775
King County Housing Authority | 600 Andover Park West | Tukwila | 98188 | WA | 98188 | 68,861
Seattle Housing Authority | 120 6th Avenue North | Seattle | 98109 | WA | 98109 | 69,000
Housing Authority of the City of Milwaukee | P.O. Box 324 | Milwaukee | 53201 | WI | 53201 | 69,000
Benwood Housing Authority | 2200 Marshall Street | Benwood | 26031 | WV | 26031 | 18,104
Charleston-Kanawha Housing Authority | 1525 Washington Street West | Charleston | 25387 | WV | 25387 | 46,183
Housing Authority of the City of Cheyenne | 33054 Sheridan Street | Cheyenne | 82009 | WY | 82009 | 34,500

[FR Doc. 2012-5887 Filed 3-9-12; 8:45 am]

BILLING CODE 4210-67-P